DEPARTMENT OF HOMELAND SECURITY

Coast Guard

33 CFR Part 117

[USCG-2008-1187]

RIN 1625-AA09

Drawbridge Operation Regulations; Curtis Creek in Baltimore, MD, Maintenance

AGENCY: Coast Guard, DHS.

ACTION: Notice of temporary deviation from regulations.

SUMMARY: The Commander, Fifth Coast Guard District, has approved a temporary deviation from the regulations governing the operation of the Pennington Avenue Bridge, at mile 0.9, across Curtis Creek in Baltimore, MD. Under this temporary deviation, the drawbridge may remain in the closed position on specific dates and times to facilitate electrical repairs.

DATES: This deviation is effective from 6 a.m. on January 21, 2009, to 11:59 p.m. on January 27, 2009.

ADDRESSES: Documents indicated in this preamble as being available in the docket are part of docket USCG-2008-1187 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: Mr. Bill H. Brazier, Bridge Management Specialist, Fifth Coast Guard District, at (757) 398-6422.

SUPPLEMENTARY INFORMATION: The Maryland State Highway Administration, who owns and operates this double-leaf bascule drawbridge, has requested a temporary deviation from the current operating regulations set out in 33 CFR 117.5 that requires the bridge to open promptly and fully for the passage of vessels when a request to open is given to facilitate electrical repairs.

The Pennington Avenue Bridge, a double-leaf bascule, has a vertical clearance in the closed position to vessels of 38 feet, above mean high water.

To facilitate installation of submarine cables and electrical repairs, the drawbridge will be maintained in the closed-to-navigation position from 6 a.m. on January 21, 2009, until and including 11:59 p.m. on January 27, 2009.

The Coast Guard will inform the users of the waterway through our Local and Broadcast Notices to Mariners of the opening restrictions of the draw span to minimize transiting delays caused by the temporary deviation.

In accordance with 33 CFR 117.35(e), the drawbridge must return to its regular operating schedule immediately at the end of the designated time period. This deviation from the operating regulations is authorized under 33 CFR 117.35.

Dated: December 15, 2008.
Waverly W. Gregory, Jr.,
Chief, Bridge Administration, Branch Fifth Coast Guard District.

[FR Doc. E8-31073 Filed 12-30-08; 8:45 am]

BILLING CODE 4910-15-P